DEPARTMENT OF DEFENSE

Department of the Navy

Notice of Intent To Grant Exclusive Patent License; Omega Sensors, Inc.

AGENCY: Department of the Navy, DoD.

ACTION: Notice.

SUMMARY: The Department of the Navy herby gives notice of its intent to grant to Omega Sensors, Inc., a revocable, nonassignable, exclusive license in the United States to practice the Government-Owned invention(s) described in U.S. Patent Number 6,546,798, entitled “Micro-Electro-Mechanical Systems Resonant Optical Gyroscope”, issue date April 4, 2003.//U.S. Patent Number 6,550,330, entitled “Differential Amplification for Micro-Electro-Mechanical Ultra-Sensitive Accelerometer”, issue date April 22, 2003.//U.S. Patent Number 6,581,465, entitled “Micro-electro-mechanical systems ultra sensitive accelerometer”, issue date June 24, 2003.//U.S. Patent Number 6,763,718, entitled “Micro-Electro-Mechanical Ultra-Sensitive Accelerometer with Independent Sensitivity Adjustment”, issue date July 20, 2004.//U.S. Patent Pending, entitled “Integrated Circuit Porphyrin-Based Optical Chemical Sensor”, Navy Case Number 84715.//U.S. Patent Pending, entitled “Wireless Remote Sensor and Method for Making Same”, Navy Case Number 84769.//U.S. Patent Pending, entitled “Micro-Electro-Mechanical Systems Magnetic Vibration Power Generator”, Navy Case Number 84774.

DATES: Anyone wishing to object to the grant of this license must file written objections along with supporting evidence, if any, not later than April 21, 2006.

ADDRESSES: Written objections are to be filed with the Office of Research and Technology Applications, Space and Naval Warfare Systems Center, Code 2112, 83570 Silvergate Ave., Room 2306, San Diego, CA 92152-5048.

FOR FURTHER INFORMATION CONTACT: Dr. Stephen H. Lieberman, Office of Research and Technology Applications, Space and Naval Warfare Systems Center, Code 2112, 83570 Silvergate Ave., Room 2306, San Diego, CA 92152-5048, telephone 619-553-2778, e-mail: stephen.lieberman@navy.mil.

(Authority: 35 U.S.C. 207, 37 CFR part 404)

Dated: March 28, 2006.
Eric McDonald,
Lieutenant Commander, Judge Advocate General's Corps, U.S. Navy, Federal Liaison Officer.

[FR Doc. E6-4996 Filed 4-5-06; 8:45 am]

BILLING CODE 3810-FF-P